DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat constituting the entire survey record of the dependent resurvey of a portion of the subdivisional lines, Township 8 South, Range 14 East, of the Boise Meridian, Idaho, Group Number 1269, was accepted October 14, 2009.

The plat representing the dependent resurvey of portions of the subdivisional lines and Mineral Survey Number 3149, Township 11 North, Range 17 East, of the Boise Meridian, Idaho, Group Number 1273, was accepted November 4, 2009.

The plat representing the dependent resurvey of portions of the south boundary, west boundary, and subdivisional lines, and the subdivision of sections 20 and 30, Township 3 South, Range 19 East, of the Boise Meridian, Idaho, Group Number 1270, was accepted November 13, 2009.

The plat representing the dependent resurvey of portions of the west boundary and subdivisional lines, and the subdivision of sections 29, 30, and 31, Township 7 South, Range 36 East, of the Boise Meridian, Idaho, Group Number 1148, was accepted November 19, 2009.

The supplemental plat prepared to show new lottings in section 23, T. 4 S., R. 4 E., Boise Meridian, Idaho, was accepted December 17, 2009.

The plat representing the dependent resurvey of a portion of the subdivisional lines, Township 3 South, Range 1 East, of the Boise Meridian, Idaho, Group Number 1243, was accepted December 17, 2009.

Dated: January 4, 2010.
Stanley G. French,
Chief Cadastral Surveyor for Idaho.

[FR Doc. 2010-235 Filed 1-8-10; 8:45 am]

BILLING CODE 4310-CG-P